DEPARTMENT OF ENERGY

Federal Energy Regulatory Commission

[Docket No. ER01-1833-000, et al.]

Commonwealth Edison Company, et al.; Electric Rate and Corporate Regulation Filings

May 31, 2001.

Take notice that the following filings have been made with the Commission:

1. Commonwealth Edison Company

[Docket No. ER01-1833-000]

Take notice that on May 25, 2001, Commonwealth Edison Company (ComEd) tendered for filing a Notice of Withdrawal of the proposed amendments to Attachment K of its Open Access Transmission Tariff filed in the above-referenced proceeding on April 20, 2001.

Copies of this filing were served on all affected customers under ComEd's OATT, upon the regulatory commissions of Illinois and Indiana and upon each person designated on the official service list compiled by the Secretary in this proceeding.

Comment date: June 15, 2001, in accordance with Standard Paragraph E at the end of this notice.

2. Southern California Edison Company

[Docket No. ER01-2116-000]

Take notice that on May 25, 2001, Southern California Edison Company (Edison) tendered for filing a one-time billing adjustment for the 2000-2001 Delivery Year made pursuant to the formula rate contained in the Environmental Energy Storage Agreement (Agreement) between SCE and the Department of Energy—Bonneville Power Administration (BPA).

Copies of this filing were served upon the Public Utilities Commission of the State of California and BPA.

Comment date: June 15, 2001, in accordance with Standard Paragraph E at the end of this notice.

3. PJM Interconnection, L.L.C.

[Docket No. ER01-2117-000]

Take notice that on May 25, 2001, PJM Interconnection, L.L.C. (PJM), tendered for filing (i) an executed agreement for firm point-to-point transmission service with Engage Energy America LLC (Engage); and (ii) an executed agreement for non-firm point-to-point transmission service with Engage.

Copies of this filing were served upon Engage and the state commissions within the PJM control area.

Comment date: June 15, 2001, in accordance with Standard Paragraph E at the end of this notice.

4. Southern California Edison Company

[Docket No. ER01-2118-000]

Take notice that on May 25, 2001, Southern California Edison Company (SCE) tendered for filing a Service Agreement For Wholesale Distribution Service (Service Agreement) under SCE's Wholesale Distribution Access Tariff between SCE and The Metropolitan Water District of Southern California (MWD). The Service Agreement specifies the terms and conditions pursuant to which SCE will provide wholesale Distribution Service to MWD for up to 39.6 MW of generation produced by MWD's Diamond Valley Lake Small Conduit Hydroelectric Project. SCE requests that the Service Agreement become effective on May 21, 2001.

Copies of this filing were served upon the Public Utilities Commission of the State of California and MWD.

Comment date: June 15, 2001, in accordance with Standard Paragraph E at the end of this notice.

5. Southern California Edison Company

[Docket No. ER01-2119-000]

Take notice that on May 25, 2001, Southern California Edison Company (SCE) tendered for filing the Interconnection Facilities Agreement (Agreement) between SCE and Harbor Cogeneration Company (Harbor).

SCE requests that the Agreement become effective on May 26, 2001.

Copies of this filing were served upon the Public Utilities Commission of the State of California and Harbor.

Comment date: June 15, 2001, in accordance with Standard Paragraph E at the end of this notice.

6. Tampa Electric Company

[Docket No. ER01-2120-000]

Take notice that on May 25, 2001, Tampa Electric Company (Tampa Electric) tendered for filing a service agreement with Enron Power Marketing, Inc. (Enron) under Tampa Electric's market-based sales tariff. Tampa Electric proposed that the service agreement be made effective on April 30, 2001.

Copies of the filing have been served on Enron and the Florida Public Service Commission.

Comment date: June 15, 2001, in accordance with Standard Paragraph E at the end of this notice.

7. Wisconsin Public Service Corporation

[Docket No. ER01-2121-000]

Take notice that on May 25, 2001, Wisconsin Public Service Corporation (WPSC) tendered for filing a revised partial requirements service agreement with Upper Peninsula Power Company (UPPCO). First Revised Service Agreement No. 11 provides UPPCO's contract demand nominations for January 2002-December 2002, under WPSC's W-2A partial requirements tariff.

The company states that copies of this filing have been served upon WIEC and to the State Commissions where WPSC serves at retail.

Comment date: June 15, 2001, in accordance with Standard Paragraph E at the end of this notice.

8. Ameren Services Company

[Docket No. ER01-2122-000]

Take notice that on May 25, 2001, Ameren Services Company (ASC) tendered for filing a Transmission System Interconnection Agreement and Parallel Operating Agreement between ASC and Ameren Energy Development Company. ASC asserts that the purpose of the Agreement is to permit ASC to provide transmission service to Ameren Energy Development Company pursuant to Ameren's Open Access Transmission Tariff.

Comment date: June 15, 2001, in accordance with Standard Paragraph E at the end of this notice.

9. Ameren Services Company

[Docket No. ER01-2123-000]

Take notice that on May 25, 2001, Ameren Services Company (ASC) tendered for filing a Transmission System Interconnection Agreement and Parallel Operating Agreement between ASC and Ameren Energy Generating Company and Ameren Energy Development Company.

ASC asserts that the purpose of the Agreement is to permit ASC to provide transmission service to Ameren Energy Generating Company and Ameren Energy Development Company pursuant to Ameren's Open Access Transmission Tariff.

Comment date: June 15, 2001, in accordance with Standard Paragraph E at the end of this notice.

10. The Dayton Power and Light Company

[Docket No. ER01-2124-000]

Take notice that on May 25, 2001, The Dayton Power and Light Company (Dayton) tendered for filing service agreements establishing Calpine Energy Services, LP, Axia Energy, LP, Exelon Generation Company, LLC as customers under the terms of Dayton's Open Access Transmission Tariff.

Dayton requests an effective date of one day subsequent to this filing for the service agreements. Accordingly, Dayton requests waiver of the Commission's notice requirements. Copies of this filing were served upon with Calpine Energy Services, L.P., Axia Energy, LP, Exelon Generation Company, LLC and the Public Utilities Commission of Ohio.

Comment date: June 15, 2001, in accordance with Standard Paragraph E at the end of this notice.

11. Michigan Electric Transmission Company

[Docket No. ER01-2125-000]

Take notice that on May 24, 2001, Michigan Electric Transmission Company (Michigan Transco) tendered for filing a First Revised Service Agreement No. 22 (Agreement) with Consumers Energy Company (Customer) under its Electric Tariff FERC No. 1 with a proposed effective date of April 1, 2001.

The revisions consist of certain additional terms related to Consumers' Palisades Nuclear Generating Plant. The filing was served upon the Customer and the Michigan Public Service Commission.

Comment date: June 14, 2001, in accordance with Standard Paragraph E at the end of this notice.

12. Michigan Electric Transmission Company

[Docket No. ER01-2126-000]

Take notice that on May 24, 2001 Michigan Electric Transmission Company (Michigan Transco) tendered for filing an unexecuted Generator Interconnection and Operating Agreement Between Consumers and Montcalm County Renaissance Trust [Generator] (Agreement). Generator had requested that the unexecuted Agreement be filed. Consumers requested that the Agreement be allowed to become effective April 27, 2001.

Copies of the filing were served upon Generator and the Michigan Public Service Commission.

Comment date: June 14, 2001, in accordance with Standard Paragraph E at the end of this notice.

13. PJM Interconnection, L.L.C.

[Docket No. ER01-2127-000]

Take notice that on May 24, 2001 PJM Interconnection, L.L.C. (PJM), tendered for filing an executed interconnection service agreement between PJM and Middlesex Generating Company, LLC, and two executed interim interconnection service agreements between PJM and Mirant Americas Energy Marketing, L.P.

PJM requests a waiver of the Commission's 60-day notice requirement to permit the effective dates agreed to by the parties.

Copies of this filing were served upon each of the parties to the agreements and the state regulatory commissions within the PJM control area.

Comment date: June 14, 2001, in accordance with Standard Paragraph E at the end of this notice.

14. Entergy Services, Inc.

[Docket No. ER01-2128-000]

Take notice that on May 23, 2001, Entergy Services, Inc. (Entergy Services), on behalf of Entergy Arkansas, Inc., Entergy Gulf States, Inc., Entergy Louisiana, Inc., Entergy Mississippi, Inc., and Entergy New Orleans, Inc., tendered for filing six copies of a Notice of Termination for Short-Term and Non-Firm Point-To-Point Transmission Service Agreements between Entergy Services and Engage Energy US, L.P. (now known as El Paso Merchant Energy, L.P.).

Comment date: June 13, 2001, in accordance with Standard Paragraph E at the end of this notice.

15. Holt Company of Ohio

[Docket No. ER01-2129-000]

Take notice that on May 24, 2001, Holt Company of Ohio (Holt), tendered for filing for acceptance of Holt's FERC Electric Tariff, Original Volume Number 1; the granting of certain blanket approvals, including the authority to sell electricity at market-based rates; and the waiver of certain Commission regulations. Holt requests an effective date no later than June 1, 2001.

Holt intends to engage in wholesale electric power and energy purchases and sales as a power marketer. Holt is an Ohio corporation headquartered in Columbus, Ohio. Holt is currently engaged in the selling, leasing, and servicing of, inter alia, power systems equipment.

Comment date: June 14, 2001, in accordance with Standard Paragraph E at the end of this notice.

16. Central Maine Power Company

[Docket No. ER01-2130-000]

Take notice that on May 24, 2001, Central Maine Power Company (CMP) tendered for filing a service agreement for Local Network Transmission Service (LNTS) entered into with Calpine Construction Finance Company, L.P. Service will be provided pursuant to CMP's Open Access Transmission Tariff, designated rate schedule CMP-FERC Electric Tariff, Fifth Revised Volume No. 3, Service Agreement Number 126.

Comment date: June 14, 2001, in accordance with Standard Paragraph E at the end of this notice.

17. Progress Energy, Inc. on behalf of Florida Power Corporation

[Docket No. ER01-2131-000]

Take notice that on May 24, 2001, Florida Power Corporation (FPC) tendered for filing Service Agreements for Short-Term Firm and Non-Firm Point-to-Point Transmission Service with Axia Energy, LP. Service to this Eligible Customer will be in accordance with the terms and conditions of the Open Access Transmission Tariff filed on behalf of FPC.

FPC is requesting an effective date of May 23, 2001 for the Service Agreements.

A copy of the filing was served upon the Florida Public Service Commission.

Comment date: June 14, 2001, in accordance with Standard Paragraph E at the end of this notice.

18. California Independent System Operator Corporation

[Docket No. ER01-2132-000]

Take notice that on May 24, 2001, the California Independent System Operator Corporation, (ISO) tendered for filing a Participating Generator Agreement between the ISO and The Metropolitan Water District of Southern California for acceptance by the Commission.

The ISO states that this filing has been served on The Metropolitan Water District of Southern California and the California Public Utilities Commission.

The ISO is requesting waiver of the 60-day notice requirement to allow the Participating Generator Agreement to be made effective May 15, 2001.

Comment date: June 14, 2001, in accordance with Standard Paragraph E at the end of this notice.

19. California Independent System Operator Corporation

[Docket No. ER01-2133-000]

Take notice that on May 24, 2001, the California Independent System Operator Corporation, (ISO) tendered for filing a Participating Generator Agreement between the ISO and Mountain View Power Partners II, L.L.C. for acceptance by the Commission.

The ISO states that this filing has been served on Mountain View Power Partners, II, L.L.C. and the California Public Utilities Commission.

The ISO is requesting waiver of the 60-day notice requirement to allow the Participating Generator Agreement to be made effective May 15, 2001.

Comment date: June 14, 2001, in accordance with Standard Paragraph E at the end of this notice.

20. California Independent System Corporation

[Operator Docket No. ER01-2134-000]

Take notice that on May 24, 2001, the California Independent System Operator Corporation, (ISO) tendered for filing a Participating Generator Agreement between the ISO and Mountain View Power Partners II, L.L.C. for acceptance by the Commission.

The ISO states that this filing has been served on Mountain View Power Partners, II, L.L.C. and the California Public Utilities Commission.

The ISO is requesting waiver of the 60-day notice requirement to allow the Participating Generator Agreement to be made effective May 15, 2001.

Comment date: June 14, 2001, in accordance with Standard Paragraph E at the end of this notice.

21. California Independent System Operator Corporation

[Docket No. ER01-2135-000]

Take notice that on May 24, 2001, the California Independent System Operator Corporation, (ISO) tendered for filing a Participating Generator Agreement between the ISO and The Metropolitan Water District of Southern California for acceptance by the Commission.

The ISO states that this filing has been served on The Metropolitan Water District of Southern California and the California Public Utilities Commission.

The ISO is requesting waiver of the 60-day notice requirement to allow the Participating Generator Agreement to be made effective May 15, 2001.

Comment date: June 14, 2001, in accordance with Standard Paragraph E at the end of this notice.

22. California Independent System Operator Corporation

[Docket No. ER01-2136-000]

Take notice that on May 24, 2001, the California Independent System Operator Corporation, tendered for filing a Meter Service Agreement for ISO Metered Entities between the ISO and Georgia-Pacific West, Inc., for acceptance by the Commission.

The ISO states that this filing has been served on Georgia-Pacific West, Inc., and the California Public Utilities Commission.

The ISO is requesting waiver of the 60-day notice requirement to allow the Meter Service Agreement for ISO Metered Entities to be made effective May 15, 2001.

Comment date: June 14, 2001, in accordance with Standard Paragraph E at the end of this notice.

23. California Independent System Operator Corporation

[Docket No. ER01-2137-000]

Take notice that on May 24, 2001, the California Independent System Operator Corporation, (ISO) tendered for filing a Participating Generator Agreement between the ISO and Georgia-Pacific West, Inc., for acceptance by the Commission.

The ISO states that this filing has been served on Georgia-Pacific West, Inc., and the California Public Utilities Commission.

The ISO is requesting waiver of the 60-day notice requirement to allow the Participating Generator Agreement to be made effective May 15, 2001.

Comment date: June 14, 2001, in accordance with Standard Paragraph E at the end of this notice.

24. Capital Energy, Inc.

[Docket No. ER01-2138-000]

Take notice that on May 24, 2001, Capital Energy, Inc. (Capital) tendered for filing for acceptance of Capital Rate Schedule FERC No. 1; the granting of certain blanket approvals, including the authority to sell electricity at market-based rates; and the waiver of certain Commission regulations.

Capital intends to engage in wholesale electric power and energy purchases and sales as a marketer. Capital is not in the business of generating or transmitting electric power.

Comment date: June 14, 2001, in accordance with Standard Paragraph E at the end of this notice.

25. Somerset Windpower LLC

[Docket No. ER01-2139-000]

Take notice that on May 25, 2001, Somerset Windpower LLC (Somerset), tendered for filing for authority to sell electricity at market-based rates under Section 205(a) of the Federal Power Act, 16 U.S.C. § 824d(a); for granting of certain blanket approvals and for the waiver of certain Commission regulations.

Somerset is a limited liability company that proposes to engage in the wholesale sale of electric power in the state of Pennsylvania.

Comment date: June 15, 2001, in accordance with Standard Paragraph E at the end of this notice.

26. Somerset Windpower, LLC

[Docket No. EG01-219-000]

Take notice that on May 25, 2001, Somerset Windpower, LLC tendered for filing with the Federal Energy Regulatory Commission (Commission), an application for determination of exempt wholesale generator status pursuant to Part 356 of the Commission's regulations (18 CFR Part 356).

Somerset is developing a wind-powered eligible facility with a capacity of 9 megawatts, powered by approximately six (6) wind turbine generators, which will be located in Somerset County, Pennsylvania.

Comment date: June 21, 2001, in accordance with Standard Paragraph E at the end of this notice. The Commission will limit its consideration of comments to those that concern the adequacy or accuracy of the application.

27. Niagara Mohawk Power Corporation

[Docket No. ES01-34-000]

Take notice that on May 25, 2001, Niagara Mohawk Power Corporation submitted an application pursuant to section 204 of the Federal Power Act seeking authorization to issue and renew, on or before June 30, 2003, short-term notes and other obligations in an aggregate principal amount outstanding not to exceed $700 million at any time.

Comment date: June 19, 2001, in accordance with Standard Paragraph E at the end of this notice.

Standard Paragraph

E. Any person desiring to be heard or to protest such filing should file a motion to intervene or protest with the Federal Energy Regulatory Commission, 888 First Street, N.E., Washington, D.C. 20426, in accordance with Rules 211 and 214 of the Commission's Rules of Practice and Procedure (18 CFR 385.211 and 385.214). All such motions or protests should be filed on or before the comment date. Protests will be considered by the Commission in determining the appropriate action to be taken, but will not serve to make protestants parties to the proceeding. Any person wishing to become a party must file a motion to intervene. Copies of these filings are on file with the Commission and are available for public inspection. This filing may also be viewed on the Internet at http://www.ferc.fed.us/online/rims.htm (call 202-208-2222 for assistance). Comments, protests, and interventions may be filed electronically via the internet in lieu of paper. See, 18 CFR 385.2001(a)(1)(iii) and the instructions on the Commission's web site at http://www.ferc.fed.us/efi/doorbell.htm.

David P. Boergers,
Secretary.

[FR Doc. 01-14195 Filed 6-5-01; 8:45 am]

BILLING CODE 6717-01-P